DEPARTMENT OF AGRICULTURE

Food Safety and Inspection Service

[Docket No. FSIS-2008-0029]

National Advisory Committee on Meat and Poultry Inspection

AGENCY: Food Safety and Inspection Service, USDA.

ACTION: Notice of public meeting.

SUMMARY: The Food Safety and Inspection Service (FSIS) is announcing, pursuant to the Federal Advisory Committee Act, 5 U.S.C. App. 2, that the National Advisory Committee on Meat and Poultry Inspection (NACMPI) will hold a public meeting on August 27-28, 2008, to review and discuss international equivalence and the approach to verifying the equivalence of foreign food regulatory systems as the means of ensuring the safety of imported food products. The meeting will include discussion of four major perspectives. First, a U.S. government perspective will be presented on the FSIS strategy and the Food and Drug Administration (FDA) approach. Second, an industry perspective will be presented. Third, a consumer approach will be presented, and finally, the approaches by several foreign governments will be presented and discussed.

All issues will be presented to the full Committee. The Committee will then divide into two subcommittees to discuss the issues. Each subcommittee will provide a report of their comments and recommendations to the full Committee before the meeting concludes on August 28, 2008.

DATES: The Committee will hold a public meeting on Wednesday, August 27, 2008, from 8:30 a.m. to 6 p.m., and Thursday, August 28, 2008, from 8:30 a.m. to 3 p.m. The subcommittees will hold open meetings during their deliberations and report preparation.

ADDRESSES: The meetings will take place at the South Building Cafeteria, U.S. Department of Agriculture (USDA), 14th & Independence Avenue, SW., Washington, DC 20250. Non-USDA employees must enter through wing 2, located on 12th and C Street, SW. The meeting agenda is available on the Internet at the NACMPI Web site, http://www.fsis.usda.gov/about_fsis/nacmpi/index.asp.

The NACMPI meeting agenda, together with information and resource materials on public health-based inspection, is also available on the Internet at http://www.fsis.usda.gov/regulations_&_policies/Public_Health_Based_Inspection/index.asp.

FSIS welcomes comments through September 29 on the topics discussed at the NACMPI public meeting. Comments may be submitted by any of the following methods:

• Electronic mail: NACMPI@fsis.usda.gov.

• Mail, including floppy disks or CD-ROMs: Send to National Advisory Committee on Meat and Poultry Inspection, USDA, FSIS, 14th & Independence Avenue, SW., Room 1180, South Building, Washington, DC 20250.

• Hand- or courier-delivered items: Deliver to Faye Smith at 14th & Independence Avenue, SW., Room 1180-S, Washington, DC. To deliver these items, the building security guard must first call (202) 720-9113.

• Facsimile: Send to Faye Smith, (202) 720-5704. All submissions received must include the Agency name and docket number FSIS-2008-0029.

FOR FURTHER INFORMATION: Contact Keith Payne for technical information at (202) 690-6522, or e-mail keith.payne@fsis.usda.gov, and Faye Smith for meeting information at (202) 720-9113, Fax (202) 720-5704, or e-mail faye.smith@fsis.usda.gov. Persons requiring a sign language interpreter or other special accommodations should notify Faye Smith at the numbers above or by e-mail.

SUPPLEMENTARY INFORMATION:

Background

The NACMPI provides advice and recommendations to the Secretary of Agriculture pertaining to the Federal and State meat and poultry inspection programs, pursuant to sections 7(c), 24, 205, 301(a)(3), 301(a)(4), and 301(c) of the Federal Meat Inspection Act (21 U.S.C. 607(c), 624, 645, 661(a)(3), 661(a)(4), and 661(c)) and sections 5(a)(3), 5(a)(4), 5(c), 8(b), and 11(e) of the Poultry Products Inspection Act (21 U.S.C. 454(a)(3), 454(a)(4), 454(c), 457(b), and 460(e)).

The Administrator of FSIS is the chairperson of the Committee. Membership of the Committee is drawn from representatives of consumer groups; producers, processors, and marketers from the meat, poultry and egg product industries; State and local government officials; and academia. The current members of the NACMPI are: Ms. Kibbe M. Conti, Northern Plains Nutrition Consulting, Rapid City, SD; Mr. Brian R. Covington, Keystone Foods LLC, West Conshohocken, PA; Dr. Catherine N. Cutter, Pennsylvania State University, University Park, PA; Dr. James S. Dickson, Iowa State University, Ames, IA; Mr. Kevin M. Elfering, Albuquerque, NM; Mr. Mike W. Finnegan, Montana Meat & Poultry Inspection Bureau, Helena, MT; Ms. Carol Tucker Foreman, Consumer Federation of America, Chevy Chase, MD; Dr. Andrea L. Grondahl, North Dakota Department of Agriculture, Bismarck, ND; Dr. Joseph J. Harris, Southwest Meat Association, Bryan, TX; Dr. Craig W. Henry, Food Products Association, Washington, DC; Ms. Cheryl D. Jones, Morehouse School of Medicine, Atlanta, GA; Mr. Michael E. Kowalcyk, DunnhumbyUSA LLC, Cincinnati, OH; Dr. Shelton E. Murinda, California State Polytechnic University, Pomona, CA; Dr. Edna Negron-Bravo, University of Puerto Rico, Mayaguez, PR; Dr. Michael L. Rybolt, National Turkey Federation, Washington, DC; Mr. Mark P. Schad, Schad Meats, Inc., Cincinnati, OH; and Dr. Stanley A. Stromberg, Oklahoma Department of Agriculture, Food, and Forestry, Oklahoma City, OK.

The Committee will review materials and provide comments and recommendations concerning FSIS's approach for verifying equivalence of foreign inspection systems. This system consists of (1) determining equivalence of laws, regulations, and government controls, (2) audits of foreign inspection systems, and (3) port-of-entry (POE) reinspection of imported product.

Under the Federal Meat Inspection Act and the Poultry Products Inspection Act, equivalence is the foundation for imports and has become a condition of trade between two countries. Equivalence recognizes that an exporting country can provide an appropriate level of food safety and public health protection, even if their sanitary measures are different from those applied by the U.S. Once a country is determined to have a system equivalent to the U.S., that country is then responsible for maintaining the entire system's equivalence while exporting to the U.S. FSIS verifies that the country maintains equivalence through audits of foreign inspection systems. These audits include on-site visits by FSIS personnel of certified establishments and approved laboratories, and FSIS review of government controls. The final audit reports of these countries are posted on the FSIS Web site.

Finally, the last part of verifying the continuing equivalence of foreign systems is through re-inspection of products at the U.S. border. Every shipment of meat, poultry, or egg products that enters the U.S. must be presented to an FSIS inspector at one of the approximately 140 official FSIS import establishments strategically located at major ocean ports of entry and land border crossings. It is here that the initial checks for proper documentation, transportation damage, and proper labeling are conducted. In addition to the initial re-inspection of product entering the U.S., FSIS performs random re-inspection on approximately 10 percent of the shipments of meat, poultry, and egg products. These re-inspection tasks include, for example, product examinations, microbiological analysis for pathogens, and/or a test for chemical residues. Acceptable products or the documents are marked as “Inspected and Passed” and the product is released into commerce. Non-compliant products are rejected, marked as “Refused Entry,” and either destroyed or exported from the U.S. More intensive re-inspection is automatically applied to future shipments of product from the foreign establishment that produced the product that failed re-inspection.

If a country does not implement an FSIS requirement or equivalent sanitary measure, or fails an audit, or POE re-inspection identifies serious problems, FSIS can, and has in the past, suspend imports from that country or individual plants within the country, or suspend specific products from the country.

All interested parties are welcome to attend the meetings and to submit written comments and suggestions concerning issues the Committee will review and discuss. The comments and the official transcript of the meeting, when they become available, will be kept in the FSIS Docket Room, U.S. Department of Agriculture, Food Safety and Inspection Service, 1400 Independence Avenue, SW., Room 2534, South Building, Washington, DC 20250, and posted on the Agency's NACMPI Web site, http://www.fsis.usda.gov/about_fsis/nacmpi/index.asp.

Members of the public will be required to register before entering the meeting.

Additional Public Notification

Public awareness of all segments of rulemaking and policy development is important. Consequently, in an effort to ensure that the public and in particular minorities, women, and persons with disabilities, are aware of this notice, FSIS will announce it on-line through the FSIS Web page located at http://www.fsis.usda.gov/regulations/2008_Notices_Index/.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls, export information, regulations, directives, and notices. Customers can add or delete subscriptions themselves, and have the option to password protect their accounts.

Done at Washington, DC, on August 12, 2008.
Alfred V. Almanza,
Administrator.

[FR Doc. E8-19041 Filed 8-13-08; 11:15 am]

BILLING CODE 3410-DM-P